DEPARTMENT OF ENERGY

Federal Energy Regulatory Commission

Combined Notice of Filings

Take notice that the Commission has received the following Natural Gas Pipeline Rate and Refund Report filings:

Filings Instituting Proceedings

Docket Numbers: PR25-10-000.

Applicants: Kansas Gas Service, A Division of ONE Gas, Inc.

Description: § 284.123(g) Rate Filing: Kansas Gas Service Notice of Revised Statement of Operating Comditions to be effective 11/1/2024.

Filed Date: 10/30/24.

Accession Number: 20241030-5216.

Comment Date: 5 p.m. ET 11/20/24..

§ 284.123(g) Protest: 5 p.m. ET 12/30/24

Docket Numbers: RP25-105-000.

Applicants: Texas Eastern Transmission, LP.

Description: § 4(d) Rate Filing: TETLP PCB DEC 2024 Filing to be effective 12/1/2024.

Filed Date: 10/30/24.

Accession Number: 20241030-5155.

Comment Date: 5 p.m. ET 11/12/24.

Docket Numbers: RP25-106-000.

Applicants: El Paso Natural Gas Company, L.L.C.

Description: § 4(d) Rate Filing: Negotiated Rate Agreements Update (2024) to be effective 11/1/2024.

Filed Date: 10/30/24.

Accession Number: 20241030-5177.

Comment Date: 5 p.m. ET 11/12/24.

Docket Numbers: RP25-107-000.

Applicants: Ruby Pipeline, L.L.C.

Description: § 4(d) Rate Filing: RP 2024-10-30 Negotiated Rate Agreement and Non-Conforming Amendment to be effective 11/1/2024.

Filed Date: 10/30/24.

Accession Number: 20241030-5219.

Comment Date: 5 p.m. ET 11/12/24.

Docket Numbers: RP25-108-000.

Applicants: Ruby Pipeline, L.L.C.

Description: § 4(d) Rate Filing: RP 2024-10-30 FL&U and EPC Rate Adjustment to be effective 12/1/2024.

Filed Date: 10/30/24.

Accession Number: 20241030-5220.

Comment Date: 5 p.m. ET 11/12/24.

Docket Numbers: RP25-109-000.

Applicants: El Paso Natural Gas Company, L.L.C.

Description: § 4(d) Rate Filing: Shipper Name Change and Housekeeping Filing to be effective 12/1/2024.

Filed Date: 10/30/24.

Accession Number: 20241030-5229.

Comment Date: 5 p.m. ET 11/12/24.

Docket Numbers: RP25-110-000.

Applicants: Equitrans, L.P.

Description: § 4(d) Rate Filing: Amended and New EQT Energy Agreements—11/1/2024 to be effective 11/1/2024.

Filed Date: 10/31/24.

Accession Number: 20241031-5009.

Comment Date: 5 p.m. ET 11/12/24.

Docket Numbers: RP25-111-000.

Applicants: Equitrans, L.P.

Description: § 4(d) Rate Filing: Update Initial Retainage Rate 11-1-2024 to be effective 11/1/2024.

Filed Date: 10/31/24.

Accession Number: 20241031-5010.

Comment Date: 5 p.m. ET 11/12/24.

Docket Numbers: RP25-112-000.

Applicants: Fayetteville Express Pipeline LLC.

Description: Compliance filing: Fuel Filing on 10-31-2024 to be effective N/A.

Filed Date: 10/31/24.

Accession Number: 20241031-5069.

Comment Date: 5 p.m. ET 11/12/24.

Docket Numbers: RP25-113-000.

Applicants: ETC Tiger Pipeline, LLC.

Description: § 4(d) Rate Filing: Fuel Filing on 10-31-2024 to be effective 12/1/2024.

Filed Date: 10/31/24.

Accession Number: 20241031-5072.

Comment Date: 5 p.m. ET 11/12/24.

Docket Numbers: RP25-114-000.

Applicants: Trunkline Gas Company, LLC.

Description: Compliance filing: Annual Interruptible Storage Revenue Credit Filed 10-31-24 to be effective N/A.

Filed Date: 10/31/24.

Accession Number: 20241031-5084.

Comment Date: 5 p.m. ET 11/12/24.

Docket Numbers: RP25-115-000.

Applicants: Kern River Gas Transmission Company.

Description: § 4(d) Rate Filing: 2024 October Negotiated Rate Amendments to be effective 11/1/2024.

Filed Date: 10/31/24.

Accession Number: 20241031-5085.

Comment Date: 5 p.m. ET 11/12/24.

Docket Numbers: RP25-116-000.

Applicants: Eastern Gas Transmission and Storage, Inc.

Description: § 4(d) Rate Filing: EGTS—October 31, 2024 Negotiated Rate Agreement to be effective 12/1/2024.

Filed Date: 10/31/24.

Accession Number: 20241031-5094.

Comment Date: 5 p.m. ET 11/12/24.

Docket Numbers: RP25-117-000.

Applicants: Eastern Gas Transmission and Storage, Inc.

Description: § 4(d) Rate Filing: EGTS—October 31, 2024 MCS Negotiated Rates to be effective 11/1/2024.

Filed Date: 10/31/24.

Accession Number: 20241031-5102.

Comment Date: 5 p.m. ET 11/12/24.

Docket Numbers: RP25-118-000.

Applicants: WBI Energy Transmission, Inc.

Description: § 4(d) Rate Filing: 2024 Compliance for Wahpeton Expansion to be effective 12/1/2024.

Filed Date: 10/31/24.

Accession Number: 20241031-5108.

Comment Date: 5 p.m. ET 11/12/24.

Docket Numbers: RP25-119-000.

Applicants: Eastern Gas Transmission and Storage, Inc.

Description: § 4(d) Rate Filing: EGTS—Incremental Electric Power Costs Clarification to be effective 12/1/2024.

Filed Date: 10/31/24.

Accession Number: 20241031-5109.

Comment Date: 5 p.m. ET 11/12/24.

Docket Numbers: RP25-120-000.

Applicants: El Paso Natural Gas Company, L.L.C.

Description: § 4(d) Rate Filing: Negotiated Rate Agreement Update (Conoco Nov 2024) to be effective 11/1/2024.

Filed Date: 10/31/24.

Accession Number: 20241031-5110.

Comment Date: 5 p.m. ET 11/12/24.

Docket Numbers: RP25-121-000.

Applicants: Destin Pipeline Company, L.L.C.

Description: 2024 Annual Fuel Retention Percentage of Destin Pipeline Company, L.L.C.

Filed Date: 10/31/24.

Accession Number: 20241031-5138.

Comment Date: 5 p.m. ET 11/12/24.

Docket Numbers: RP25-122-000.

Applicants: WBI Energy Transmission, Inc.

Description: § 4(d) Rate Filing: 2024 Negotiated and Non-Conforming SA—MDU (FT-1966) to be effective 12/1/2024.

Filed Date: 10/31/24.

Accession Number: 20241031-5149.

Comment Date: 5 p.m. ET 11/12/24.

Docket Numbers: RP25-123-000.

Applicants: Algonquin Gas Transmission, LLC.

Description: § 4(d) Rate Filing: Negotiated Rates—Yankee Gas to Emera eff 10-31-24 to be effective 10/31/2024.

Filed Date: 10/31/24.

Accession Number: 20241031-5153.

Comment Date: 5 p.m. ET 11/12/24.

Docket Numbers: RP25-124-000.

Applicants: Midwestern Gas Transmission Company.

Description: Compliance filing: 2023-2024 Cashout Report to be effective N/A.

Filed Date: 10/31/24.

Accession Number: 20241031-5157.

Comment Date: 5 p.m. ET 11/12/24.

Docket Numbers: RP25-125-000.

Applicants: Midwestern Gas Transmission Company.

Description: Compliance filing: 2023-2024 Gas Sales and Purchases Report to be effective N/A.

Filed Date: 10/31/24.

Accession Number: 20241031-5164.

Comment Date: 5 p.m. ET 11/12/24.

Docket Numbers: RP25-126-000.

Applicants: Guardian Pipeline, L.L.C.

Description: Compliance filing: 2023-2024 Gas Sales and Purchases Report to be effective N/A.

Filed Date: 10/31/24.

Accession Number: 20241031-5171.

Comment Date: 5 p.m. ET 11/12/24.

Docket Numbers: RP25-127-000.

Applicants: Colorado Interstate Gas Company, L.L.C.

Description: § 4(d) Rate Filing: Negotiated Rate Agreement Filing (BHSC #221132-TF1CIG) to be effective 11/1/2024.

Filed Date: 10/31/24.

Accession Number: 20241031-5173.

Comment Date: 5 p.m. ET 11/12/24.

Docket Numbers: RP25-128-000.

Applicants: OkTex Pipeline Company, L.L.C.

Description: Compliance filing: 2023-2024 Gas Sales and Purchases Report to be effective N/A.

Filed Date: 10/31/24.

Accession Number: 20241031-5180.

Comment Date: 5 p.m. ET 11/12/24.

Docket Numbers: RP25-129-000.

Applicants: Viking Gas Transmission Company.

Description: Compliance filing: 2023-2024 Gas Sales and Purchases Report to be effective N/A.

Filed Date: 10/31/24.

Accession Number: 20241031-5185.

Comment Date: 5 p.m. ET 11/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2024.
Carlos D. Clay,
Acting Deputy Secretary.

[FR Doc. 2024-25844 Filed 11-6-24; 8:45 am]

BILLING CODE 6717-01-P